SOCIAL SECURITY ADMINISTRATION

Agency Information Collection Activities: Proposed Request and Comment Request

The Social Security Administration (SSA) publishes a list of information collection packages requiring clearance by the Office of Management and Budget (OMB) in compliance with Public Law (Pub. L.) 104-13, the Paperwork Reduction Act of 1995, effective October 1, 1995. This notice includes revisions and extensions of OMB-approved information collections, a collection in use without an OMB number, and new information collections.

SSA is soliciting comments on the accuracy of the agency's burden estimate; the need for the information; its practical utility; ways to enhance its quality, utility, and clarity; and ways to minimize burden on respondents, including the use of automated collection techniques or other forms of information technology. Mail, e-mail, or fax your comments and recommendations on the information collection(s) to the OMB Desk Officer and SSA Reports Clearance Director to the following addresses or fax numbers.

(OMB), Office of Management and Budget, Attn: Desk Officer for SSA, Fax: 202-395-6974, E-mail address: OIRA_Submission@omb.eop.gov.

(SSA), Social Security Administration, DCBFM, Attn: Director, Center for Reports Clearance, 1333 Annex Building, 6401 Security Blvd., Baltimore, MD 21235, Fax: 410-965-0454, E-mail address: OPLM.RCO@ssa.gov.

I. The information collections below are pending at SSA. SSA will submit them to OMB within 60 days from the date of this notice. To be sure we consider your comments, we must receive them no later than March 23, 2010. Individuals can obtain copies of the collection instruments by calling the SSA Director for Reports Clearance at 410-965-0454 or by writing to the above e-mail address.

1. Waiver of Supplemental Security Income (SSI) Payment Continuation—20 CFR 416.1400-416.1422—0960-NEW. SSA collects the information on Form SSA 263-U2 to determine whether an individual meets the provisions of the Social Security Act regarding waiver of payment continuation. Recipients must use Form SSA 263-U2 when they are awaiting a determination on their appeal and have decided to stop their payment continuation. SSA needs the information on the form as proof respondents no longer want their payments to continue. Respondents are recipients of SSI payments who wish to discontinue receipt of payment while awaiting a determination on their appeal.

Type of Request: Existing information collection in use without an OMB number.

Number of Respondents: 3,000.

Frequency of Response: 1.

Average Burden per Response: 5 minutes.

Estimated Annual Burden: 250 hours.

2. Notice Regarding Substitution of Party upon Death of Claimant—Reconsideration of Disability Cessation—20 CFR 404.917-404.921 and 416.1407-416.1421—0960-0351. When a claimant dies before we make a determination on that person's request for reconsideration of their disability cessation, SSA seeks a qualified substitute party to pursue the appeal. If SSA locates a qualified substitute party, the agency will use Form SSA-770 to collect information about whether to pursue or withdraw the reconsideration request. The information Form SSA-770 collects is the basis of the decision to continue or discontinue the appeals process. Respondents are substitute applicants who are pursuing a reconsideration request for a deceased claimant.

Type of Request: Revision of an OMB-approved information collection.

Number of Respondents: 1,200.

Frequency of Response: 1.

Average Burden per Response: 5 minutes.

Estimated Annual Burden: 100 hours.

3. Application for Benefits under the Italy-U.S. International Social Security Agreement—20 CFR 404.1925—0960-0445. SSA collects information using Form SSA-2582 based on the United States-Italy agreement effective November 1, 1978. Article 19.2 of that agreement provides that an applicant for benefits can file an application with either country. Article 4.3 of the Protocol to the Agreement dictates the country receiving the application will forward agreed-upon forms and applications to the other country. As agreed upon by the United States and Italian Social Security agencies, individuals filing an application for U.S. benefits directly with one of the Italian Social Security agencies must complete Form SSA-2528. The SSA-2528 is mandatory for respondents living in Italy who wish to file an application for U.S. benefits. SSA uses the SSA-2528 to establish age, relationship, citizenship, marriage, death, military service, or to evaluate a family bible or other family record when determining eligibility for benefits. The Italian Social Security agencies assist applicants in completing Form SSA-2528 and then forward the application to SSA for processing. The respondents are individuals living in Italy who wish to file for U.S. Social Security benefits.

Type of Request: Revision of an OMB-approved information collection.

Number of Respondents: 250.

Frequency of Response: 1.

Average Burden per Response: 20 minutes.

Estimated Annual Burden: 83 hours.

4. Earnings Record Information—20 CFR 404.801-404.803 and 404.821-404.822—0960-0505. SSA discovered that as many as 70 percent of the wage reports it receives for children under age 7 are actually the earnings of someone other than the child. To ensure we credit the correct person with the reported earnings, SSA decided we should verify wage reports for children under age 7 with the children's employers before posting to the earnings record. SSA uses Form SSA-L3231-C1 for this purpose. The respondents are employers who report earnings for children under age 7.

Type of Information Collection: Revision of an OMB-approved information collection.

Number of Respondents: 20,000.

Frequency of Response: 1.

Average Burden per Response: 10 minutes.

Estimated Annual Burden: 3,333 hours.

5. Work Incentives Planning and Assistance Program—0960-0629. The Work Incentives Planning and Assistance (WIPA) program collects identifying information from project sites and Community Work Incentives Coordinators (CWIC). In addition, the program collects data from beneficiaries on background employment, training, benefits, and work incentives. SSA is interested in identifying beneficiary outcomes under the WIPA program to determine the extent to which beneficiaries with disabilities achieve their employment, financial, and health care goals. SSA will also use the data in its analysis and future planning for Social Security Disability Insurance and SSI programs.

Type of Request: Extension of an OMB-approved information collection.

Estimated Annual Burden: 5,019 hours.

95
Respondent | Number of annual responses | Frequency of response | Average burden per response (minutes) | Estimated annual burden hours
Project Site | 147 | 1 | 2 | 5
CWIC | 422 | 1 | 2 | 14
Beneficiary | 60,000 | 1 | 5 | 5,000
Totals | 60,569 |  |  | 5,019

6. Beneficiary Interview and Auditor's Observations Form—0960-0630. SSA's Office of the Inspector General (OIG) will use the information collected through Form SSA-322, the Beneficiary Interview and Auditor's Observation form, to interview beneficiaries and/or their payees to determine if they are complying with their duties and responsibilities. SSA will randomly select SSI recipients and Social Security beneficiaries who have representative payees as respondents for this collection.

Type of Request: Extension of a previously-approved OMB information collection.

Number of Respondents: 200.

Frequency of Response: 1.

Average Burden per Response: 15 minutes.

Estimated Annual Burden: 50 hours.

7. Certification of Contents of Document(s) or Record(s)—20 CFR 404.715f—0960-0689. SSA must secure evidence necessary for individuals to establish rights to benefits. Some of the required evidence categories include evidence of age, relationship, citizenship, marriage, death, and military service. Form SSA-704 allows SSA employees, State record custodians, and other custodians of evidentiary documents to record information from documents and records to establish these types of evidence. State record custodians and other custodians of evidentiary documents are the respondents.

Type of Request: Revision of an OMB-approved information collection.

Number of Respondents: 4,800.

Frequency of Response: 1.

Average Burden per Response: 10 minutes.

Estimated Annual Burden: 800 hours.

II. SSA has submitted the information collections listed below to OMB for clearance. Your comments on the information collections would be most useful if OMB and SSA receive them within 30 days from the date of this publication. To be sure we consider your comments, we must receive them no later than February 22, 2010. You can obtain a copy of the OMB clearance packages by calling the SSA Director for Reports Clearance at 410-965-0454 or by writing to the above email address.

1. Notification of a Social Security Number (SSN) to an Employer for Wage Reporting—20 CFR 422.103—0960-NEW. Individuals applying for employment must provide an SSN or indicate they have applied for one. The information SSA collects on Form SSA-112 allows SSA to send, at the individual's request, the individual's SSN to his or her employer. Mailing this information to the employer ensures the employer has the correct SSN for the individual, allows SSA to receive correct earnings information for wage reporting purposes for the individual, and reduces the delay between the initial SSN assignment and delivery of the SSN information to the employer. The respondents are individuals who are applying for an initial SSN and who ask SSA to mail confirmation of their application or the SSN to their employers.

Type of Request: New information collection.

Number of Respondents: 375,000.

Frequency of Response: 1.

Average Burden per Response: 2 minutes.

Estimated Annual Burden: 12,500 hours.

2. Important Information about Your Appeal, Waiver Rights, and Repayment Options—20 CFR 404.502-521—0960-NEW. When SSA accidentally overpays beneficiaries, the agency uses Form SSA-3105 to inform those beneficiaries about their rights to reconsideration, waiver, or a different repayment rate. Beneficiaries use Form SSA-3105 to inform SSA if they do not agree with SSA's initial overpayment determination, if they are unable to repay the overpayment, or to request a waiver for repayment to SSA. The respondents are individuals who are overpaid claimants and who are requesting a waiver of recovery for the overpayment, reconsideration of the overpayment determination, or a lesser rate of withholding of the overpayment.

Type of Request: New information collection.

Number of Respondents: 800,000.

Frequency of Response: 1.

Average Burden per Response: 15 minutes.

Estimated Annual Burden: 200,000 hours.

3. Physician's/Medical Officer's Statement of Patient's Capability to Manage Benefits—20 CFR 404.2015 and 416.615—0960-0024. SSA collects information on Form SSA-787 to determine beneficiaries' ability to handle their own benefits. This information assists SSA in determining the need for a representative payee. The respondents are the beneficiary's physicians or medical officers of the institution in which the beneficiary resides.

Type of Request: Revision of an OMB-approved information collection.

Number of Respondents: 120,000.

Frequency of Response: 1.

Average Burden Per Response: 10 minutes.

Estimated Annual Burden: 20,000 hours.

4. Statement for Determining Continuing Eligibility, Supplemental Security Income Payment(s)—20 CFR 416.204—0960-0416. SSA uses the information from the SSA-8203-BK for high-error-profile (HEP) redeterminations of disability to determine whether SSI recipients have met and continue to meet all statutory and regulatory requirements for SSI eligibility and whether they have been, and are still receiving, the correct payment amount. Periodic collection of this information is the only way SSA can make these determinations, and collection of this information is mandatory under the law. Typically, beneficiaries complete this collection in field offices by personal contact (face-to-face or telephone interview) using the automated Modernized SSI Claim System (MSSICS). The respondents are SSI recipients or their representative payees.

Type of Request: Revision of an OMB-approved information collection.

Collection method | Number of respondents | Frequency of response | Average burden per response (minutes) | Estimated annual burden (hours)
MSSICS | 94,568 | 1 | 20 | 31,523
MSSICS/Signature Proxy | 31,522 | 1 | 19 | 9,982
Paper | 31,522 | 1 | 20 | 10,507
Totals | 157,612 |  |  | 52,012

5. Pain Report Child—20 CFR 416.912 and 416.512—0960-0540. Disability interviewers and applicants/claimants in self-help situations use Form SSA-3371-BK to record information about pain or other symptoms of a child who is claiming disability. The State Disability Determination Services adjudicators and administrative law judges use this information to assess the effects of symptoms on functionality to help make a disability determination. The respondents are applicants for SSI payments.

Note: This is a correction notice. SSA published this information collection as an extension on November 17, 2009, at 74 FR 59336. Since we are revising the Privacy Act Statement, this is now a revision of an OMB-approved information collection.

Type of Request: Revision of an OMB-approved information collection.

Number of Respondents: 250,000.

Frequency of Response: 1.

Average Burden Per Response: 15 minutes.

Estimated Annual Burden: 62,500 hours.

6. Internet Direct Deposit Application—31 CFR 210—0960-0634. SSA uses Direct Deposit/Electronic Funds Transfer (DD/EFT) enrollment information received from beneficiaries to facilitate DD/EFT of their Social Security benefits with a financial institution. Respondents are Social Security beneficiaries who use the Internet to enroll in DD/EFT.

Note: This is a correction notice. SSA published this information collection as an extension on November 17, 2009, at 74 FR 59336. Since we are revising the Privacy Act Statement, this is now a revision of an OMB-approved information collection.

Type of Request: Revision of an OMB-approved information collection.

Number of Respondents: 90,000.

Frequency of Response: 1.

Average Burden Per Response: 10 minutes.

Estimated Annual Burden: 15,000 hours.

7. Certificate of Support—20 CFR 404.370, 404.750, 404.408a—0960-0001. A parent of a deceased, fully insured worker may be entitled to Title II benefits on the earnings record of the deceased worker under certain conditions. One of the conditions is the parent must have received at least one-half support from the deceased worker. The one-half support requirement also applies to a spouse applicant in determining whether Title II benefits are subject to Government Pension Offset (GPO). SSA uses the information from Form SSA-760-F4 to determine whether the parent of a deceased worker or a spouse applicant meets the one-half support requirement. Respondents are parents of deceased workers or spouses who may be exempt from GPO.

Note: This is a correction notice. SSA published this information collection as an extension on October 26, 2009, at 74 FR 55080. Since we are revising the Privacy Act Statement, this is now a revision of an OMB-approved information collection.

Type of Request: Revision of an OMB-approved information collection.

Number of Respondents: 18,000.

Frequency of Response: 1.

Average Burden Per Response: 15 minutes.

Estimated Annual Burden: 4,500 hours.

Dated: January 15, 2010.
Elizabeth A. Davidson,
Director, Center for Reports Clearance, Social Security Administration.

[FR Doc. 2010-1115 Filed 1-21-10; 8:45 am]

BILLING CODE 4191-02-P